DEPARTMENT OF COMMERCE

International Trade Administration

[A-570-848]

Notice of Extension of Time Limit for Preliminary Results of Administrative Antidumping Review and New Shipper Reviews: Freshwater Crawfish Tail Meat From the People's Republic of China

AGENCY: Import Administration, International Trade Administration, Department of Commerce.

EFFECTIVE DATE: May 1, 2000.

FOR FURTHER INFORMATION CONTACT: Jacqueline Arrowsmith or Maureen Flannery, AD/CVD Enforcement, Import Administration, International Trade Administration, U.S. Department of Commerce, 14th Street and Constitution Avenue, N.W., Washington D.C. 20230; telephone: (202) 482-4052 or (202) 482-3020, respectively.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (1999).

Background

In accordance with 19 CFR § 351.213(b)(2), the Department received requests from the following companies that we conduct an administrative review of their sales: Huaiyin Foreign Trade Corp. (30); Huaiyin Foreign Trade Corp. (5); Huaiyin Foreign Trade Corp.; Yancheng Baolong Biochemical Products Co., Ltd.; Qingdao Rirong Foodstuff Co., Ltd.; Lianyungang Haiwang Aquatic Products Co., Ltd.; Yancheng Haiteng Aquatic Products and Foods Co., Ltd.; and Yancheng Foreign Trade Corp. Petitioner in the proceeding, the Crawfish Processors Alliance, also requested an administrative review of the following: China Everbright Trading Company; Binzhou Prefecture Foodstuffs Import & Export Corp.; Huaiyin Foreign Trade Corporation; Huaiyin Foreign Trade Corporation (5); Yancheng Foreign Trade Corporation; Jiangsu Cereals, Oils & Foodstuffs Import & Export Corp.; Yancheng Baolong Aquatic Foods Co.; Huaiyin Ningtai Fisheries Co., Ltd.; Nantong Delu Aquatic Food Co., Ltd.; Ningbo Nanlian Frozen Foods Company, Ltd.; Qingdao Rirong Foodstuff Co.; Lianyungang Haiwang Aquatic Products Company Ltd.; Yancheng Baolong Biochemical Products Co., Ltd.; Zhenfeng Foodstuff Co.; Weishan Hongfa Lake Foodstuff Co., Ltd.; Ever Concord; Hua Yin Foreign Trading; Huaiyin Foreign Trading; Lianyungang Hailong Aquatic Product; Qiafco; Seatrade International; Weishan Jinmuan Foodstuff; Welly Shipping, aka Kenwa Shipping; Yancheng Foreign Trading; Jiangsu Baolong Group; Asia-Europe; Jiangsu Aquatic Products Freezing Plant; and Yupeng Fishery. We published a notice of initiation of this antidumping duty administrative review on November 4, 1999 (64 FR 60161).

On February 1, 2000, the Crawfish Processor Alliance, petitioner in this case, withdrew their request for review for the following companies: China Everbright Trading Company; Binzhou Prefecture Foodstuffs Import & Export Corp.; Jiangsu Cereals, Oils & Foodstuffs Import & Export Corp.; Yancheng Baolong Aquatic Foods Co.; Huaiyin Ningtai Fisheries Co., Ltd.; Nantong Delu Aquatic Food Co., Ltd.; Ever Concord; Lianyungang Hailong Aquatic Product; Qiafco; Seatrade International; Welly Shipping, aka Kenwa Shipping; and Yancheng Foreign Trading.

In accordance with 19 CFR § 351.214, Yixing Ban Chang Foods Co., Ltd.; Fujian Pelagic Fishery Group Company; Shantou SEZ Yangfeng Marine Products Company; Yangzhou Lakebest Foods, Co., Ltd.; Suquian Foreign Trade Co., Ltd.; and Qingdao Zhengri Seafood Co. Ltd. requested that we conduct a new shipper review of their sales. We published a notice of initiation of these new shipper reviews on November 15, 1999 (64 FR 61833).

On February 25, 2000, Yixing Ban Chang Foods Co., Ltd. withdrew its request for review.

Extension of Time Limits for Preliminary Results

The Department has determined that the issues are extraordinarily complicated and it is not practicable to complete this review within the time limits mandated by section 751(a)(2)(B)(iv) of the Act and sections 351. 213(h)(2) and 351.214(i)(2) of the Department's regulations. See the Memorandum from Edward C. Yang to Joseph A. Spetrini, Extension of Time Limits for the Preliminary Results of Administrative Review and New Shipper Reviews of Freshwater Crawfish Tail Meat from the People's Republic of China, dated April 7, 2000.

Therefore, in accordance with these sections, the Department is extending the time limits for the preliminary results to August 27, 2000.

Joseph A. Spetrini,
Deputy Assistant Secretary for AD/CVD Enforcement III.

[FR Doc. 00-10808 Filed 4-28-00; 8:45 am]

BILLING CODE 3510-DS-P